DEPARTMENT OF TRANSPORTATION

Federal Aviation Administration

14 CFR Part 39

[Docket No. FAA-2009-0007; Directorate Identifier 2008-CE-072-AD; Amendment 39-15867; AD 2009-07-08]

RIN 2120-AA64

Airworthiness Directives; Piper Aircraft, Inc. Models PA-46-350P and PA-46R-350T Airplanes

AGENCY: Federal Aviation Administration (FAA), Department of Transportation (DOT).

ACTION: Final rule.

SUMMARY: We are adopting a new airworthiness directive (AD) for certain Piper Aircraft, Inc. Models PA-46-350P and PA-46R-350T airplanes. This AD requires you to inspect the 35-amp and 250-amp current limiters to verify they are installed in the proper locations and correct the installation if the current limiters are not installed in the proper locations. This AD also limits operation to “only under day visual flight rules (VFR)” until the current limiter installation is inspected and corrected. This AD results from three reports of incorrectly installed current limiters. We are issuing this AD to detect and correct incorrect installation of 35-amp and 250-amp current limiters, which could result in failure of the 35-amp current limiter if installed in the 250-amp location. This failure could lead to a total loss of electrical power.

DATES: This AD becomes effective on May 5, 2009.

On May 5, 2009, the Director of the Federal Register approved the incorporation by reference of certain publications listed in this AD.

ADDRESSES: For service information identified in this AD, contact Piper Aircraft, Inc., 2926 Piper Drive, Vero Beach, Florida 32960; telephone: (772) 978-6573; Internet: http://www.newpiper.com/company/publications.asp.

To view the AD docket, go to U.S. Department of Transportation, Docket Operations, M-30, West Building Ground Floor, Room W12-140, 1200 New Jersey Avenue, SE., Washington, DC 20590, or on the Internet at http://www.regulations.gov. The docket number is FAA-2009-0007; Directorate Identifier 2008-CE-072-AD.

FOR FURTHER INFORMATION CONTACT: John Lee, Aerospace Engineer, One Crown Center, 1895 Phoenix Blvd., Suite 450, Atlanta, Georgia 30349; telephone: (770) 994-6736; fax: (770) 703-6097.

SUPPLEMENTARY INFORMATION:

Discussion

On January 7, 2009, we issued a proposal to amend part 39 of the Federal Aviation Regulations (14 CFR part 39) to include an AD that would apply to certain Piper Aircraft, Inc. Models PA-46-350P and PA-46R-350T airplanes. This proposal was published in the Federal Register as a notice of proposed rulemaking (NPRM) on January 15, 2009 (74 FR 2425). The NPRM proposed to require an inspection to verify the 35-amp and 250-amp current limiters are installed in the proper locations and correct the installation if the current limiters are not installed in the proper locations. The NPRM also proposed to limit operation to only under day VFR until the current limiter installation is inspected and corrected.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 118 airplanes in the U.S. registry.

We estimate the following costs to do the inspection:

Labor cost | Parts cost | Total cost per airplane | Total cost on U.S. operators
1 work-hour × $80 per hour = $80 | Not Applicable | $80 | $9,440

We estimate the following costs to do any necessary repairs that would be required based on the results of the proposed inspection. We have no way of determining the number of airplanes that may need this repair:

Labor cost | Parts cost | Total cost per airplane
1 work-hour × $80 per hour = $80 | Not Applicable | $80

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2009-0007; Directorate Identifier 2008-CE-072-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2009-07-08 Piper Aircraft, Inc.: Amendment 39-15867; Docket No. FAA-2009-0007; Directorate Identifier 2008-CE-072-AD.

Effective Date

(a) This AD becomes effective on May 5, 2009.

Affected ADs

(b) None.

Applicability

(c) This AD applies to the following airplane models and serial numbers that are certificated in any category:

Models | Serial Nos.
PA-46-350P | 4636375 through 4636447.
PA-46R-350T | 4692001 through 4692068.

Unsafe Condition

(d) This AD results from three reports of incorrectly installed current limiters. We are issuing this AD to detect incorrect installation of 35-amp and 250-amp current limiters, which could result in failure of the 35-amp current limiter if installed in the 250-amp location. This failure could lead to a total loss of electrical power.

Compliance

(e) To address this problem, you must do the following, unless already done:

Actions | Compliance | Procedures
(1) Insert the following into the Limitations section of the airplane flight manual (AFM): “Operate Only under Day Visual Flight Rules (VFR).” You may remove the limitations specified in this paragraph after doing the action required in paragraphs (e)(2) and (e)(3) of this AD, as applicable | Before further flight after May 5, 2009 (the effective date of this AD). | Under 14 CFR 43.7, the owner/operator holding at least a private pilot certificate is allowed to insert the information into the AFM as specified in paragraph (e)(1) of this AD. You may insert a copy of this AD into the Limitations section of the AFM to comply with this action. Make an entry into the aircraft logbook showing compliance with this portion of the AD per compliance with 14 CFR 43.9.
(2) Inspect the 35-amp and 250-amp current limiters for installation in the proper location | Within 100 hours time-in-service after May 5, 2009 (the effective date of this AD). | Follow Piper Aircraft, Inc. Service Bulletin No. 2000, dated September 16, 2008.
(3) If you find any current limiter not in the proper location, reinstall the current limiter in the proper location | Before further flight after the inspection required in paragraph (e)(2) of this AD. | Follow Piper Aircraft, Inc. Service Bulletin No. 2000, dated September 16, 2008.

Alternative Methods of Compliance (AMOCs)

(f) The Manager, Atlanta Aircraft Certification Office (ACO), FAA, has the authority to approve AMOCs for this AD, if requested using the procedures found in 14 CFR 39.19. Send information to ATTN: John Lee, Aerospace Engineer, One Crown Center, 1895 Phoenix Blvd., Suite 450, Atlanta, Georgia 30349; telephone: (770) 994-6736; fax: (770) 703-6097. Before using any approved AMOC on any airplane to which the AMOC applies, notify your appropriate principal inspector (PI) in the FAA Flight Standards District Office (FSDO), or lacking a PI, your local FSDO.

Material Incorporated by Reference

(g) You must use Piper Aircraft, Inc. Service Bulletin No. 2000, dated September 16, 2008, to do the actions required by this AD, unless the AD specifies otherwise.

(1) The Director of the Federal Register approved the incorporation by reference of this service information under 5 U.S.C. 552(a) and 1 CFR part 51.

(2) For service information identified in this AD, contact Piper Aircraft, Inc., 2926 Piper Drive, Vero Beach, Florida 32960; telephone: (772) 978-6573; Internet: http://www.newpiper.com/company/publications.asp.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on March 24, 2009.
John R. Colomy,
Acting Manager, Small Airplane Directorate, Aircraft Certification Service.

[FR Doc. E9-6986 Filed 3-30-09; 8:45 am]

BILLING CODE 4910-13-P